DEPARTMENT OF AGRICULTURE

Submission for OMB Review; Comment Request

July 24, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by August 28, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Tomatoes with Stems from the Republic of Korea into the United States.

OMB Control Number: 0579-0371.

Summary of Collection: Under the Plant Protection Act (PPA, 7 U.S.C. 7701 et seq.), the Secretary of Agriculture is authorized to prohibit or restrict the importation, entry, or interstate movement of plants, plant products, and other articles to prevent the introduction of plant pests into the United States or their dissemination within the United States. As authorized by the PPA, the Animal and Plant Health Inspection Service (APHIS) regulates the importation of certain fruits and vegetables in accordance with the regulations contained in “Subpart-Fruits and Vegetables” (7 CFR 319.56 through 319.56-61). Under the regulations, tomatoes with stems from the Republic of Korea may be imported into the United States under certain conditions.

Need and Use of the Information: APHIS will use the following information collection activities to collect information: Registered pest-exclusionary structure, monthly inspection of pest-exclusionary structures, records of trap placement, trapping for Bactrocera depressa, Trapping Mitigations and phytosanitary certificates with an additional declaration stating that the tomatoes were produced in accordance with the regulations.

Description of Respondents: Businesses or other for profit; Federal Government.

Number of Respondents: 3.

Frequency of Responses: Reporting: On occasion.

Total Burden Hours: 57.

Animal and Plant Health Inspection Service

Title: Importation of Fresh Baby Kiwi from Chili Under a Systems Approach.

OMB Control Number: 0579-0374.

Summary of Collection: Under the Plant Protection Act (7 U.S.C. 7701-7772), the Secretary of Agriculture is authorized to carry out operations or measures to detect, eradicate, suppress, control, prevent, or retard the spread of plant pests new to the United States or not known to be widely distributed throughout the United States. The regulations “Subpart-Fruit and Vegetables” (7 CFR 319.56-1 through 319 56-58), prohibit or restrict the importation of fruits and vegetables into the United States from certain parts of the world to prevent the introduction and dissemination of plant pests that are not widely distributed within the United States. The regulations allow fresh baby kiwi fruit from Chile to be imported into the continental United States subject to a system approach. The action is necessary in order to provide an alternative mitigation measure other than fumigation with methyl bromide.

Need and Use of the Information: The Animal and Plant Health Inspection Service will use the following activities to collect information: Phytosanitary Certificate, Production Site Registration, Labeling of Field Cartons or Containers, Bilateral Workplan, Low prevalence production site certification, and Phytosanitary Inspections. If the information is not collected, APHIS' ability to protect the United States from exotic insect pest would be severely compromised.

Description of Respondents: Business or other for-profit; Federal Government.

Number of Respondents: 5.

Frequency of Responses: Reporting: On occasion.

Total Burden Hours: 849.

Ruth Brown,
Departmental Information Collection Clearance Officer.

[FR Doc. 2017-15805 Filed 7-26-17; 8:45 am]

BILLING CODE 3410-34-P